DEPARTMENT OF LABOR

Employment and Training Administration

Notice of Determinations Regarding Eligibility To Apply for Worker Adjustment Assistance

In accordance with section 223 of the Trade Act of 1974, as amended, (19 U.S.C. 2273), the Department of Labor herein presents summaries of determinations regarding eligibility to apply for trade adjustment assistance for workers (TA-W) number and alternative trade adjustment assistance (ATAA) by (TA-W) number issued during the periods of February, 2006.

In order for an affirmative determination to be made and a certification of eligibility to apply for directly-impacted (primary) worker adjustment assistance to be issued, each of the group eligibility requirements of section 222(a) of the Act must be met.

I. Section (a)(2)(A) all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign county of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made and a certification of eligibility to apply for worker adjustment assistance as an adversely affected secondary group to be issued, each of the group eligibility requirements of section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or

(B) A loss or business by the workers' firm with the firm (or subdivision) described in paragraph (2) contributed importantly to the workers' separation or threat of separation.

Affirmative Determinations for Worker Adjustment Assistance

The following certifications have been issued; the date following the company name and location of each determination references the impact date for all workers of such determination.

The following certifications have been issued. The requirements of (a) (2) (A) (increased imports) of section 222 have been met.

TA-W-58,639; Albany Industries, New Albany, MS: January 13, 2005

TA-W-58,541; TFL USA/Canada, Inc., New Castle Plant, New Castle, DE: December 19, 2004

TA-W-58,541A; TFL USA/Canada, Inc., Corporate Headquarters, Greensboro, NC: December 19, 2004

TA-W-58,689; LaSalle Laboratories, A Division of Del Laboratories, Inc., Little Falls, NY, January 20, 2005

TA-W-58,701; Taylor Precision Products, Including On-Site Leased Workers from D.M. Dickason Temporary, Las Cruces, NM, January 23, 2005

TA-W-58,822; Century Tool and Manufacturing Co., Cherry Valley, IL, February 9, 2005

TA-W-58,641; Elkem Carbon Co., Elkem Carbon Keokuk Division, Keokuk, IA, January 16, 2005

TA-W-58,556; Gardner Glass Products, Division of Carolina Mirrors, North Wilkesboro, NC: December 29, 2004

TA-W-58,587; Native Textiles, Inc., Queensbury, NY, January 5, 2005

TA-W-58,587A; Native Textiles, Inc., New York, NY, January 5, 2005

TA-W-58,614; Lenoir Mirror Company, Plant #3, Lenoir, NC, January 11, 2005

TA-W-58,631; Newburgh Dye and Printing, Inc., Newburgh, NY: January 12, 2005

TA-W-58,654; J and R Wire, Inc., Scranton, PA: January 17, 2005

TA-W-58,673; Columbia Plywood Corporation, A Subsidiary of Columbia Forest Products, Klamath Falls, OR, January 18, 2005

TA-W-58,674; Fuji Hunt Photographic Chemicals, Inc., Fuji Photo Film America, Dayton, TN, January 18, 2005

TA-W-58,678; Maryland MPC, LLC, Formerly known as Modular Components National, Lowell, MA, January 17, 2005

TA-W-58,778; Cotton Boutique, Inc., Allentown, PA, January 31, 2005

The following certifications have been issued. The requirements of (a) (2) (B) (shift in production) of section 222 have been met.

TA-W-58,660A; L'Oreal USA Products, Inc., Savannah Distribution Center, Savannah, GA, January 10, 2005

TA-W-58,686; Signet Armorlite, Inc., San Marcos, CA: January 20, 2005

TA-W-58,703; TI Automotive, Oven Department, Brake and Fuel Marysville Plant, Marysville, MI, January 23, 2005

TA-W-58,565; Renaissance Mark, A Subsidiary of Arsenal Capital Partners, known as WS Packaging Group, Olyphant, PA, January 3, 2005

TA-W-58,580; Torque Traction Integration Technologies, A Subsidiary of Dana Corporation, Automotive Systems Group Division, Buena Vista, VA, January 4, 2005

TA-W-58,589; Cooper Standard Automotive, Sealing Systems Division, Griffin, GA, February 11, 2006

TA-W-58,611; C-COR Inc., Access & Transport Division, Wallingford, CT, January 11, 2005

TA-W-58,611A; C-COR Inc., Access & Transport Division, State College, PA, January 11, 2005

TA-W-58,660; L'Oreal USA Products, Inc., Savannah, GA, January 10, 2005

TA-W-58,672; GKN Driveline North America, Including On-site Leased Workers from Adecco, Sanford, NC: January 18, 2005

TA-W-58,672A; GKN Driveline North America, Including On-site Leased Workers from Adecco, Columbia, SC: January 18, 2005

TA-W-58,692; Unique Balance, Dubuque, IA, January 23, 2005

TA-W-58,712; TRW, Automotive Division, Jackson, MI: January 18, 2005

TA-W-58,729; York Metal Casket Assembly, Lynn, IN: January 25, 2005

TA-W-58,766; Filtrona Extrusion USA, Phoenix, AZ, January 31, 2005

TA-W-58,790; Cardinal Health 200, Medical Prodcuts Mfg. Div., On-Site Leased Workers From ADECCO, Olston, Spherion, Asheville, NC, January 10, 2005

TA-W-58,612; MKS Instruments, Inc., Applied Science and Technology, Medical Electronics Division, Colorado Springs, CO, July 1, 2005

TA-W-58,618; W.E. Stephens Mfg. Co., Nashville, TN, January 11, 2005

TA-W-58,618A; Golden Elk Enterprises, Inc., Nashville, TN, January 11, 2005

The following certification has been issued. The requirement of supplier to a trade certified firm has been met.

TA-W-58,634; Carolina Quilting Company, Inc., Lawndale, NC, December 19, 2004

The following certification has been issued. The requirement of downstream producer to a trade certified firm has been met.

TA-W-58,748; Gala Printing Co., Spartanburg, SC: January 25, 2005

Negative Determinations for Worker Adjustment Assistance

In the following cases, the investigation revealed that the criteria for eligibility have not been met for the reasons specified.

The investigation revealed that criterion (a)(2)(A)(I.A) and (a)(2)(B)(II.A) (no employment decline) has not been met.

TA-W-58,803; Movie Star, Petersburg, PA.

The investigation revealed that criteria (a)(2)(A)(I.B.) (Sales or production, or both, did not decline) and (a)(2)(B)(II.B) (shift in production to a foreign country) have not been met.

TA-W-58,781; Nashua Corporation, Toner Product Division, Merrimack, NH.

TA-W-58,595; Lear Corporation, Tooling Operations, Seating Systems Division, Plymouth, MI.

TA-W-58,711; Scholle Packaging, On-Site Leased Workers of Volt Services Group, Rancho Dominguez, CA.

The investigation revealed that criteria (a)(2)(A)(I.C.) (Increased imports) and (a)(2)(B)(II.B) (No shift in production to a foreign country) have not been met.

TA-W-58,531; Feeny Manufacturing Co., Division of Knape and Vogt Mfg. Co., Muncie, IN.

TA-W-58,583; Air Products and Chemicals, Inc., Including On-Site Leased Workers of Shaw Maintenance, Pace, FL.

TA-W-58,629; Consolidated Container Co., Beverage and Industrial Container Division, Leetsdale, PA.

TA-W-58,642; Jones Apparel Group, AM-1 Room, Bristol, PA.

TA-W-58,642A; Jones Apparel Group, Bristol Distribution Center, Bristol, PA.

TA-W-58,645; Greif, Inc., Reno, PA.

TA-W-58,659; Degussa Corporation, Coatings and Colorants Division, Lockland, OH.

TA-W-58,662; Maben Logging, Inc., Logging Division Heppner, OR.

TA-W-58,664; Maine Scientific, Richmond, ME.

TA-W-58,683; Cedar Valley Wood Products, Eldon, MO.

TA-W-58,684; Smurfit-Stone Container Corporation, Roanoke, VA.

TA-W-58,707; Zagora Gear Products, Charlotte, NC.

TA-W-58,764; Enduroglas, LLC, Glen Arbor, MI.

The investigation revealed that criteria (a)(2)(A)(I.C.) (Increased imports) and (a)(2)(B)(II.C) (has shifted production to a foreign country) have not been met.

The workers' firm does not produce an article as required for certification under section 222 of the Trade Act of 1974.

TA-W-58,738; John Hancock, Retail Finance Department, Boston, MA.

TA-W-58,762; Agilent Technologies, Inc., Global Financial Services Division, Colorado Springs, CO.

TA-W-58,814; TFL USA/Canada, Inc., Wire Transfer Department, Bank of Montreal, Chicago, IL.

The investigation revealed that criteria (2) has not been met. The workers' firm (or subdivision) is not a supplier or downstream producer to trade-affected companies.

TA-W-58,638; Mosey Manufacturing Co., Plant 1, Richmond, IN.

Affirmative Determinations for Alternative Trade Adjustment Assistance

In order for the Division of Trade Adjustment Assistance to issue a certification of eligibility to apply for Alternative Trade Adjustment Assistance (ATAA) for older workers, the group eligibility requirements of section 246(a)(3)(A)(ii) of the Trade Act must be met.

The following certifications have been issued; the date following the company name and location of each determination references the impact date for all workers of such determinations.

In the following cases, it has been determined that the requirements of Section 246(a)(3)(ii) have been met.

I. Whether a significant number of workers in the workers' firm are 50 years of age or older.

II. Whether the workers in the workers' firm possess skills that are not easily transferable.

III. The competitive conditions within the workers' industry (i.e., conditions within the industry are adverse).

TA-W-58,639; Albany Industries, New Albany, MS: January 13, 2005

TA-W-58,541; TFL USA/Canada, Inc., New Castle Plant, New Castle, DE: December 19, 2004

TA-W-58,541A; TFL USA/Canada, Inc., Corporate Headquarters, Greensboro, NC: December 19, 2004

TA-W-58,689; LaSalle Laboratories, A Division of Del Laboratories, Inc., Little Falls, NY, January 20, 2005

TA-W-58,701; Taylor Precision Products, Including On-Site Leased Workers from D.M. Dickason Temporary, Las Cruces, NM: January 23, 2005

TA-W-58,822; Century Tool and Manufacturing Co., Cherry Valley, IL: February 9, 2005

TA-W-58,641; Elkem Carbon Co., Elkem Carbon Keokuk Division, Keokuk, IA: January 16, 2005

TA-W-58,556; Gardner Glass Products, Division of Carolina Mirrors, North Wilkesboro, NC: December 29, 2004

TA-W-58,587; Native Textiles, Inc., Queensbury, NY: January 5, 2005

TA-W-58,587A; Native Textiles, Inc., New York, NY: January 5, 2005

TA-W-58,614; Lenoir Mirror Company, Plant #3, Lenoir, NC: January 11, 2005

TA-W-58,631; Newburgh Dye and Printing, Inc., Newburgh, NY: January 12, 2005

TA-W-58,654; J and R Wire, Inc., Scranton, PA: January 17, 2005

TA-W-58,673; Columbia Plywood Corporation, A Subsidiary of Columbia Forest Products, Klamath Falls, OR: January 18, 2005.

TA-W-58,674; Fuji Hunt Photographic Chemicals, Inc., Fuji Photo Film America, Dayton, TN, January 18, 2005

TA-W-58,678; Maryland MPC, LLC, Formerly known as Modular Components National, Lowell, MA, January 17, 2005

TA-W-58,778; Cotton Boutique, Inc., Allentown, PA: January 31, 2005

TA-W-58,565; Renaissance Mark, A Subsidiary of Arsenal Capital Partners, known as WS Packaging Group, Olyphant, PA, January 3, 2005

TA-W-58,580; Torque Traction Integration Technologies, A Subsidiary of Dana Corporation, Automotive Systems Group Division, Buena Vista, VA, January 4, 2005

TA-W-58,589; Cooper Standard Automotive, Sealing Systems Division, Griffin, GA, February 11, 2006

TA-W-58,611; C-COR Inc., Access & Transport Division, Wallingford, CT: January 11, 2005

TA-W-58,611A; C-COR Inc., Access & Transport Division, State College, PA: January 11, 2005

TA-W-58,660; L'Oreal USA Products, Inc., Savannah, GA: January 10, 2005

TA-W-58,672; GKN Driveline North America, Including On-Site Leased Workers from ADECCO, Sanford, NC, January 18, 2005

TA-W-58,672A; GKN Driveline North America, Including On-site Leased Workers from ADECCO, Columbia, SC: January 18, 2005

TA-W-58,692; Unique Balance, Dubuque, IA, January 23, 2005

TA-W-58,712; TRW, Automotive Division, Jackson, MI: January 18, 2005

TA-W-58,729; York Metal Casket Assembly, Lynn, IN, January 25, 2005

TA-W-58,766; Filtrona Extrusion USA, Phoenix, AZ, January 31, 2005

TA-W-58,790; Cardinal Health 200, Medical Products Mfg. Div., On-Site Leased Workers from ADECCO, Olston, Spherion, Asheville, NC: January 10, 2005

TA-W-58,612; MKS Instruments, Inc., Applied Science and Technology, Medical Electronics Division, Colorado Springs, CO: July 1, 2005

TA-W-58,618; W.E. Stephens Mfg. Co., Nashville, TN: January 11, 2005

TA-W-58,618A; Golden Elk Enterprises, Inc., Nashville, TN: January 11, 2005

TA-W-58,634; Carolina Quilting Company, Inc., Lawndale, NC, December 19, 2004

Negative Determinations for Alternative Trade Adjustment Assistance

In order for the Division of Trade Adjustment Assistance to issue a certification of eligibility to apply for Alternative Trade Adjustment Assistance (ATAA) for older workers, the group eligibility requirements of section 246(a)(3)(A)(ii) of the Trade Act must be met.

In the following cases, it has been determined that the requirements of section 246(a)(3)(ii) have not been met for the reasons specified.

Since the workers are denied eligibility to apply for TAA, the workers cannot be certified eligible for ATAA.

TA-W-58,803; Movie Star, Petersburg, PA.

TA-W-58,781; Nashua Corporation, Toner Product Division, Merrimack, NH.

TA-W-58,531; Feeny Manufacturing Co., Division of Knape and Vogt Mfg. Co., Muncie, IN.

TA-W-58,583; Air Products and Chemicals, Inc., Including On-Site Leased Workers of Shaw Maintenance, Pace, FL.

TA-W-58,629; Consolidated Container Co., Beverage and Industrial Container Division, Leetsdale, PA.

TA-W-58,642; Jones Apparel Group, AM-1 Room, Bristol, PA.

TA-W-58,642A; Jones Apparel Group, Bristol Distribution Center, Bristol, PA.

TA-W-58,645; Greif, Inc., Reno, PA.

TA-W-58,659; Degussa Corporation, Coatings and Colorants Division, Lockland, OH.

TA-W-58,662; Maben Logging, Inc., Logging Division, Heppner, OR.

TA-W-58,664; Maine Scientific, Richmond, ME.

TA-W-58,683; Cedar Valley Wood Products, Eldon, MO.

TA-W-58,684; Smurfit-Stone Container Corporation, Roanoke, VA.

TA-W-58,707; Zagora Gear Products, Charlotte, NC.

TA-W-58,764; Enduroglas, LLC, Glen Arbor, MI.

TA-W-58,595; Lear Corporation, Tooling Operations, Seating Systems Division, Plymouth, MI.

TA-W-58,711; Scholle Packaging, On-Site Leased Workers of Volt Services Group, Rancho Dominguez, CA.

TA-W-58,738; John Hancock, Retail Finance Department, Boston, MA.

TA-W-58,762; Agilent Technologies, Inc., Global Financial Services Division, Colorado Springs, CO.

TA-W-58,814; TFL USA/Canada, Inc., Wire Transfer Department, Bank of Montreal, Chicago, IL.

TA-W-58,638; Mosey Manufacturing Co., Plant 1, Richmond, IN.

The Department has determined that criterion (1) of section 246 has not been met. Workers at the firm are 50 years of age or older.

TA-W-58,703; TI Automotive, Oven Department, Brake and Fuel Marysville Plant, Marysville, MI, January 23, 2005.

TA-W-58,748; Gala Printing Co., Spartanburg, SC, January 25, 2005.

The Department has determined that criterion (2) of section 246 has not been met. Workers at the firm possess skills that are easily transferable.

TA-W-58,660A; L'Oreal USA Products, Inc., Savannah Distribution Center, Savannah, GA: January 10, 2005.

TA-W-58,686; Signet Armorlite, Inc., San Marcos, CA: January 20, 2005

The Department has determined that criterion (3) of Section 246 has not been met. Competition conditions within the workers' industry are not adverse.

None.

I hereby certify that the aforementioned determinations were issued during the month of February 2006. Copies of these determinations are available for inspection in Room C-5311, U.S. Department of Labor, 200 Constitution Avenue, NW., Washington, DC 20210 during normal business hours or will be mailed to persons who write to the above address.

Dated: March 1, 2006.
Erica R. Cantor,
Director, Division of Trade Adjustment Assistance.

[FR Doc. E6-3422 Filed 3-9-06; 8:45 am]

BILLING CODE 4510-30-P